DEPARTMENT OF DEFENSE

Department of the Air Force

Department of Defense Commercial Air Carrier Quality and Safety Review

AGENCY: Department of the Air Force, DoD.

ACTION: Notice, correction.

SUMMARY: The Air Force published a document in the Federal Register September 5, 2000, concerning request for comments to assist the overall evaluation of commercial aircraft to provide quality, safe, and reliable airlift service when procured by the Department of Defense. The document contained incorrect information for “Average Burden per Respondent.”

FOR FURTHER INFORMATION CONTACT: Mr. Larry Elliott, HQ (AMC/DOB) 402 Scott Drive, Unit 3A1, Scott AFB, IL 62225-5302.

Correction

In the Federal Register of September 5, 2000, in FR Doc. 00-22573, on page 53706, correct the Average Burden per Respondent to read:

Average Burden per Respondent: 20 hours.

Dated: December 12, 2000.
Janet A. Long,
Air Force Federal Register Liaison Officer.

[FR Doc. 00-32640 Filed 12-21-00; 8:45 am]

BILLING CODE 5001-05-P